DEPARTMENT OF THE INTERIOR

National Park Service

[NPS-PWR-PWRO-14562; PX.P0131800B.00.1]

Final Environmental Impact Statement for Tuolumne Wild and Scenic River Comprehensive Management Plan, Yosemite National Park, Madera, Mariposa, Mono, and Tuolumne Counties, California

AGENCY: National Park Service, Interior.

ACTION: Notice of availability.

SUMMARY: Pursuant to the National Environmental Policy Act of 1969, 42 U.S.C. 4332(2)(C), and the National Historic Preservation Act (NHPA) of 1966 (16 U.S.C. 470 et seq.), the National Park Service (NPS) has prepared a Tuolumne Wild and Scenic River Final Comprehensive Management Plan and Environmental Impact Statement (Final Tuolumne River Plan/EIS). The Final Tuolumne River Plan/EIS fulfills the requirements of the Wild and Scenic Rivers Act (Pub. L. 90-542, as amended) (WSRA) and will provide a long-term management program for the 54 miles of the Tuolumne River that flow through Yosemite National Park.

The purpose of the Final Tuolumne River Plan/EIS is to protect the river's free-flowing character and the values that make it worthy of designation by (1) reviewing and updating river corridor boundaries and segment classifications, (2) prescribing a process for the protection of the river's free-flowing condition, (3) identifying and documenting the condition of the river's outstandingly remarkable values, (4) identifying management actions needed to protect and enhance river values, (5) establishing management objectives for river values and a monitoring program for ensuring the objectives are met, and (6) defining visitor use and user capacity for the river corridor. The Final Tuolumne River Plan/EIS would update portions of the 1980 Yosemite General Management Plan (GMP) that address management within the Tuolumne Wild and Scenic River corridor. It also identifies the agency-preferred and environmentally preferred alternative.

DATES: The NPS will execute a Record of Decision not sooner than 30 days from the date of publication of the U.S. Environmental Protection Agency's notice of filing for the Final EIS in the Federal Register.

FOR FURTHER INFORMATION CONTACT: Kathleen Morse, Chief of Planning, Yosemite National Park, P.O. Box 700-W, 5083 Foresta Road, El Portal, CA 95318, (209) 379-1110. Electronic versions of the complete document are available online at www.nps.gov/yose/parkmgmt/trp.htm. Request printed documents or CDs through email (yose_planning@nps.gov) (type “Final TRP EIS” in the subject line) or telephone (209) 379-1110.

Range of Alternatives: The Final EIS identifies and analyzes a No-Action alternative and four action alternatives for managing the Tuolumne Wild and Scenic River corridor. All alternatives would preserve and sustain wilderness character, including natural ecosystem function and opportunities for primitive, unconfined recreation, in the more than 90% of the river corridor that is congressionally designated Wilderness. The No-Action alternative would retain current conditions in the Tuolumne River corridor with no change in management, use, or development. A number of proposed actions are common to the action alternatives (Alternatives 1-4). For example, Alternatives 1-4 include WSRA elements such as boundaries, classifications, a WSRA § 7 determination process, and a user capacity management program. Per WSRA direction, Alternatives 1-4 would protect and enhance the values for which the Tuolumne River was designated, including its free-flowing condition, excellent water quality, and outstandingly remarkable values. Alternatives 1-4 vary primarily in how they balance the protection of river values with different kinds of visitor use and associated user capacities. Alternatives 1-4 would provide for traditional cultural practices by American Indian tribes. The EIS analyzes potential impacts of each alternative and describes mitigation measures.

The No-Action alternative serves as the baseline from which to compare the action alternatives. This alternative assumes that current trends in the conditions of natural and cultural resources and visitor experiences would continue, consistent with the management activities that are ongoing under current, approved plans. In the Tuolumne Meadows area, opportunities for day and overnight use would continue to include a range of recreational activities supported by modest commercial services and overnight camping and lodging.

Alternative 4 (agency-preferred) seeks to retain the traditional Tuolumne experience while reducing the impacts of development. Alternative 4 would provide a meaningful introduction for the growing number of short-term visitors in the Tuolumne Meadows area. Opportunities for day visitors to connect with the river would be improved by providing a visitor contact station, picnic area, and trail connection to the river and Parsons Memorial Lodge. Existing opportunities for traditional overnight use would remain. To accommodate slightly increased use levels while protecting and enhancing recovering meadow and riparian habitats, most day use would be confined to maintained trails and specific destinations. As discussed in detail in the EIS, Alternative 4 is identified as the environmentally preferred course of action.

Alternative 1 would achieve a visitor experience characterized by self-reliance in a more natural setting, with more wilderness-like management throughout the river corridor. In Tuolumne Meadows, all commercial services (including the Tuolumne Meadows Lodge, store, grill, fuel station, and mountaineering shop/school), would be discontinued. Use levels at the campground would remain at a reduced capacity, and the NPS would provide minimal camper supplies at the campground office. Natural river values would be enhanced by greatly reducing the development footprint, greatly reducing demands for water supply and wastewater treatment, and eliminating most potential risks to water quality.

Alternative 2 would facilitate resource enjoyment and stewardship for a broad spectrum of visitors, including visitors with only a short time to spend in the area. In the Tuolumne Meadows area, Alternative 2 would retain or expand all current activities and service. For example, there would be a new day parking and picnic area near the trailhead for Parsons Memorial Lodge and the Tuolumne Meadows Campground would be expanded. Overall visitor use levels in the river corridor would be the highest among the range of alternatives. River values would be protected by directing visitors to those areas most able to withstand use.

Alternative 3 would preserve the opportunity for a classic national park experience in a historic setting, in the Tuolumne Meadows and Glen Aulin areas. Visitors would have recreational opportunities in a setting that would appear little changed over time. A full range of orientation, interpretation, and education programs would be available. The store, grill, and concessioner day rides would remain. The Tuolumne Meadows Campground would remain at its current capacity, and the Tuolumne Lodge would be retained at half its current capacity. The levels of visitor use would be in the middle of the range of alternatives.

Changes Incorporated in Final EIS: In response to public comments on the Draft Tuolumne River Plan/EIS, agency feedback, and new technical information, the Final Tuolumne River Plan/EIS was revised as follows:

• A recreational outstanding remarkable value was reworded to clarify that it is the rare and easy access provided by the Tioga Road, not the Tioga Road itself, that is the outstanding remarkable value.

• The Glen Aulin High Sierra Camp would be retained at up to 28 beds. No tents would be removed, but the capacity of two tents would be reduced from four beds to two beds. Water consumption and wastewater production at the camp would not exceed 500 gallons per day.

• Limited boating would be allowed through the Grand Canyon of the Tuolumne, from Pothole Dome to Pate Valley. Overnight boating would be permitted under the Wilderness overnight trailhead quota system used to manage the user capacity in Wilderness zones; only noncommercial boating would be permitted. The NPS would provide for such use on a trial basis, monitoring and adjusting the management of this recreational opportunity as needed.

• Twenty-one campsites in Loop A of the Tuolumne Meadows Campground that are within 100 feet of the river would be relocated within the campground to protect riparian vegetation along the Lyell Fork.

• The mountaineering school function would be retained and accommodated at the Tuolumne Meadows Lodge.

• The NPS would seek to move the dining hall and kitchen at Tuolumne Meadows Lodge upslope within the Tuolumne Meadows Lodge complex, more than 150 feet from the banks of the Dana Fork. This move would be dependent on identification of a suitable site and consultation with the California State Historic Preservation Officer.

• The grazing capacity for meadows along the Lyell Fork would be adjusted from a capacity of 192 grazing-nights per season to a flexible capacity of 167-249 grazing-nights per season, depending on snowfall and rainfall patterns.

• The percentage of total use allocated to commercial use in Wilderness portions of the Tuolumne River Corridor would be adjusted to a slightly higher percentage. Such uses would consist of no more than 15% of total use in the Lyell Canyon portion of the river corridor.

• The Draft EIS mistakenly showed that the ranger station in Tuolumne Meadows would be relocated to the existing visitor center. The Final EIS confirms that the ranger station would remain in its existing location. The maintenance offices would occupy the old visitor center once the new visitor contact station is constructed.

• An employee fuel station would be provided at the maintenance yard. Visitors who ran out of gas could also obtain fuel.

Decision Process: The Record of Decision will be prepared not sooner than 30 days after release of the Final Tuolumne River Plan/EIS. As a delegated EIS process, the official responsible for final approval of the Tuolumne River Plan is the Regional Director, Pacific West Region, NPS; subsequently the official responsible for implementation of the approved Tuolumne River Plan is the Superintendent, Yosemite National Park.

Dated: November 22, 2013.
Martha J. Lee,
Acting Regional Director, Pacific West Region.

Editorial Note: This document was received by the Office of the Federal Register on March 11, 2014.

[FR Doc. 2014-05658 Filed 3-13-14; 8:45 am]

BILLING CODE 4312-FF-P